NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold twenty-six meetings of the Humanities Panel, a federal advisory committee, during November, 2015. The purpose of the meetings is for panel review, discussion, evaluation, and recommendation of applications for financial assistance under the National Foundation on the Arts and Humanities Act of 1965.

DATES: See Supplementary Information section for meeting dates.

ADDRESSES: The meetings will be held at Constitution Center at 400 7th Street SW., Washington, DC 20506. See SUPPLEMENTARY INFORMATION for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: November 2, 2015

TIME: 8:30 a.m. to 5:00 p.m.

ROOM: 4002

This meeting will discuss applications on the subjects of U.S. History and Culture, for Museums, Libraries, and Cultural Organizations: Implementation Grants, submitted to the Division of Public Programs.

2. DATE: November 2, 2015

TIME: 8:30 a.m. to 5:00 p.m.

ROOM: Conference Call

This meeting will discuss applications for Enduring Questions: Pilot Course Grants, submitted to the Division of Education Programs.

3. DATE: November 3, 2015

TIME: 8:30 a.m. to 5:00 p.m.

ROOM: P002

This meeting will discuss applications on the subjects of Music and Performing Arts, for the Humanities Collections and Reference Resources grant program, submitted to the Division of Preservation and Access.

4. DATE: November 3, 2015

TIME: 8:30 a.m. to 5:00 p.m.

ROOM: Conference Call

This meeting will discuss applications for Enduring Questions: Pilot Course Grants, submitted to the Division of Education Programs.

5. DATE: November 3, 2015

TIME: 8:30 a.m. to 5:00 p.m.

ROOM: Conference Call

This meeting will discuss applications on the subject of History, for Media Projects: Development Grants, submitted to the Division of Public Programs.

6. DATE: November 4, 2015

TIME: 8:30 a.m. to 5:00 p.m.

ROOM: 4002

This meeting will discuss applications on the subjects of U.S. History and Culture, for Museums, Libraries, and Cultural Organizations: Implementation Grants, submitted to the Division of Public Programs.

7. DATE: November 4, 2015

TIME: 8:30 a.m. to 5:00 p.m.

ROOM: Conference Call

This meeting will discuss applications for Enduring Questions: Pilot Course Grants, submitted to the Division of Education Programs.

8. DATE: November 5, 2015

TIME: 8:30 a.m. to 5:00 p.m.

ROOM: P002

This meeting will discuss applications on the subjects of Art and Architectural History, for the Humanities Collections and Reference Resources grant program, submitted to the Division of Preservation and Access.

9. DATE: November 5, 2015

TIME: 8:30 a.m. to 5:00 p.m.

ROOM: Conference Call

This meeting will discuss applications on the subjects of U.S. History and Culture, for Museums, Libraries, and Cultural Organizations: Planning Grants, submitted to the Division of Public Programs.

10. DATE: November 5, 2015

TIME: 8:30 a.m. to 5:00 p.m.

ROOM: Conference Call

This meeting will discuss applications for Enduring Questions: Pilot Course Grants, submitted to the Division of Education Programs.

11. DATE: November 9, 2015

TIME: 8:30 a.m. to 5:00 p.m.

ROOM: Conference Call

This meeting will discuss applications on the subjects of Arts and Culture, for Media Projects: Development Grants, submitted to the Division of Public Programs.

12. DATE: November 9, 2015

TIME: 8:30 a.m. to 5:00 p.m.

ROOM: Conference Call

This meeting will discuss applications for Enduring Questions: Pilot Course Grants, submitted to the Division of Education Programs.

13. DATE: November 10, 2015

TIME: 8:30 a.m. to 5:00 p.m.

ROOM: P002

This meeting will discuss applications on the subjects of Contemporary U.S. History and Culture, for the Humanities Collections and Reference Resources grant program, submitted to the Division of Preservation and Access.

14. DATE: November 10, 2015

TIME: 8:30 a.m. to 5:00 p.m.

ROOM: Conference Call

This meeting will discuss applications on the subject of American Studies, for Museums, Libraries, and Cultural Organizations: Planning Grants, submitted to the Division of Public Programs.

15. DATE: November 12, 2015

TIME: 8:30 a.m. to 5:00 p.m.

ROOM: Conference Call

This meeting will discuss applications on the subjects of Art and Design, for Museums, Libraries, and Cultural Organizations: Planning Grants, submitted to the Division of Public Programs.

16. DATE: November 13, 2015

TIME: 8:30 a.m. to 5:00 p.m.

ROOM: P002

This meeting will discuss applications on the subject of World Studies: Early Modern Era to Present, for the Humanities Collections and Reference Resources grant program, submitted to the Division of Preservation and Access.

17. DATE: November 16, 2015

TIME: 8:30 a.m. to 5:00 p.m.

ROOM: 4002

This meeting will discuss applications on the subjects of Archives and Digital Collections I (Level II), for Digital Humanities Start-Up Grants, submitted to the Office of Digital Humanities.

18. DATE: November 16, 2015

TIME: 8:30 a.m. to 5:00 p.m.

ROOM: P003

This meeting will discuss applications for the Dialogues on the Experience of War grant program, submitted to the Division of Education Programs.

19. DATE: November 17, 2015

TIME: 8:30 a.m. to 5:00 p.m.

ROOM: P002

This meeting will discuss applications on the subject of World Studies: Classic Era to Medieval, for the Humanities Collections and Reference Resources grant program, submitted to the Division of Preservation and Access.

20. DATE: November 17, 2015

TIME: 8:30 a.m. to 5:00 p.m.

ROOM: P003

This meeting will discuss applications for the Dialogues on the Experience of War grant program, submitted to the Division of Education Programs.

21. DATE: November 17, 2015

TIME: 8:30 a.m. to 5:00 p.m.

ROOM: 4002

This meeting will discuss applications on the subject of Geospatial and Visualization (Level II), for Digital Humanities Start-Up Grants, submitted to the Office of Digital Humanities.

22. DATE: November 18, 2015

TIME: 8:30 a.m. to 5:00 p.m.

ROOM: 4084

This meeting will discuss applications on the subjects of Media Studies and Scholarly Communication (Level II), for Digital Humanities Start-Up Grants, submitted to the Office of Digital Humanities.

23. DATE: November 18, 2015

TIME: 8:30 a.m. to 5:00 p.m.

ROOM: 4075

This meeting will discuss applications for the Dialogues on the Experience of War grant program, submitted to the Division of Education Programs.

24. DATE: November 23, 2015

TIME: 8:30 a.m. to 5:00 p.m.

ROOM: Virtual Panel

This meeting will discuss applications on the subjects of Public Programs and Education (Level I), for Digital Humanities Start-Up Grants, submitted to the Office of Digital Humanities.

25. DATE: November 23, 2015

TIME: 8:30 a.m. to 5:00 p.m.

ROOM: P003

This meeting will discuss applications for the Dialogues on the Experience of War grant program, submitted to the Division of Education Programs.

26. DATE: November 24, 2015

TIME: 8:30 a.m. to 5:00 p.m.

ROOM: P003

This meeting will discuss applications for the Dialogues on the Experience of War grant program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: October 8, 2015.
Lisette Voyatzis,
Committee Management Officer.

[FR Doc. 2015-26380 Filed 10-15-15; 8:45 am]

BILLING CODE 7536-01-P